DEPARTMENT OF ENERGY

Federal Energy Regulatory Commission

[Docket Nos. CP02-374-000, CP02-376-000, CP02-377-000 and CP02-378-000]

Hackberry LNG Terminal, L.L.C.; Notice of Availability of and Public Comment Meetings on the Draft Environmental Impact Statement for the Proposed Hackberry LNG Project

March 28, 2003.

The staff of the Federal Energy Regulatory Commission (FERC or Commission) has prepared a draft environmental impact statement (EIS) on the construction and operation of the liquified natural gas (LNG) import terminal and natural gas pipeline facilities proposed by Hackberry LNG Terminal, L.L.C (Hackberry LNG) in the above-referenced dockets.

The draft EIS was prepared to satisfy the requirements of the National Environmental Policy Act. The staff concludes that approval of the proposed project, with appropriate mitigating measures as recommended, would have limited adverse environmental impact. The draft EIS also evaluates alternatives to the proposal, including system alternatives, alternative sites for the LNG import terminal, and pipeline alternatives.

The draft EIS addresses the potential environmental effects of the construction and operation of the following facilities in Cameron, Calcasieu, and Beauregard Parishes, Louisiana:

• A ship unloading slip with two berths, each equipped with mooring and breasting dolphins, three liquid unloading arms, and one vapor return arm;

• three LNG storage tanks, each with a usable volume of 1,006,000 barrels (3.5 billion standard cubic feet of gas equivalent);

• nine first-stage pumps, each sized for 250 million standard cubic feet per day (MMscf/d);

• ten second-stage pumps, each sized for 188 MMscf/d;

• twelve submerged combustion vaporizers, each sized for 150 MMscf/d;

• a boil-off gas compressor and condensing system;

• an LNG circulation system;

• a natural gas liquids recovery unit;

• ancillary utilities, buildings, and service facilities at the LNG terminal; and

• a 35.4-mile, 36-inch-diameter natural gas sendout pipeline.

The purpose of these facilities is to transport approximately 1.5 billion cubic feet per day of imported natural gas to the United States market. As part of the proposed project, Hackberry LNG plans to remove the existing liquefied petroleum gas facilities and associated dock at the proposed terminal site.

Comment Procedures and Public Meetings

Any person wishing to comment on the draft EIS may do so. To ensure consideration prior to a Commission decision on the proposal, it is important that we receive your comments before the date specified below. Please carefully follow these instructions to ensure that your comments are received in time and are properly recorded:

• Send an original and two copies of your letter to: Magalie R. Salas, Secretary, Federal Energy Regulatory Commission, 888 First St., NE., Room 1A, Washington, DC 20426;

• Reference Docket No. CP02-374-000;

• Label one copy of your comments for the attention of the Gas 1, PJ-11.1;

• Mail your comments so that they will be received in Washington, DC on or before May 19, 2003.

Please note that we are continuing to experience delays in mail deliveries from the U.S. Postal Service. As a result, we will include all comments that we receive within a reasonable time frame in our environmental analysis of this project. However, the Commission strongly encourages electronic filing of any comments or interventions to this proceeding. See 18 CFR 385.2001(a)(1)(iii) and the instructions on the Commission's Web site at http://www.ferc.gov under the “e-Filing” link and the link to the User's Guide. Before you can file comments you will need to create an account by clicking on “Login to File” and then “New User Account.”

In addition to or in lieu of sending written comments, we invite you to attend the public comment meeting that staff will conduct in the project area. The time and location for this meeting is listed below: April 22, 2003, 7 pm, Holiday Inn Express, 102 Mallard Street, Sulphur, Louisiana 70665, Telephone: (337) 625-2500.

Interested groups and individuals are encouraged to attend and present oral comments on the draft EIS. Transcripts of the meetings will be prepared.

After these comments are reviewed, any significant new issues are investigated, and necessary modifications are made to the draft EIS, a final EIS will be published and distributed by the staff. The final EIS will contain the staff's responses to timely comments received on the draft EIS.

Comments will be considered by the Commission but will not serve to make the commenter a party to the proceeding. Any person seeking to become a party to the proceeding must file a motion to intervene pursuant to Rule 214 of the Commission's Rules of Practice and Procedure (Title 18 Code of Federal Regulations, part 385.214). Anyone may intervene in this proceeding based on this draft EIS. You must file your request to intervene as specified above. You do not need intervenor status to have your comments considered.

The draft EIS has been placed in the public files of the FERC and is available for public inspection at: Federal Regulatory Energy Commission, Public Reference and Files Maintenance Branch, 888 First Street, NE., Room 2A, Washington, DC 20426, (202) 502-8371.

A limited number of copies of the draft EIS are available from the Public Reference and Files Maintenance Branch identified above. In addition, the draft EIS has been mailed to Federal, state, and local agencies; elected officials; public interest groups; affected landowners; public libraries; newspapers; parties to the proceeding; and individuals who requested a copy of the draft EIS.

Additional information about the proposed project is available from the Commission's Office of External Affairs at 1-866-208-FERC (1-866-208-3372) or on the FERC Web site (www.ferc.gov). Click on the “FERRIS” link, enter the docket number excluding the last three digits in the Docket Number field. Be sure you have selected an appropriate date range. The application and supplemental filings in these dockets are available for viewing on FERRIS. For assistance, contact FERC Online Support at FERCOnlineSupport@ferc.gov or toll-free at (866)208-3676, or for TTY, contact (202)502-8659.

Magalie R. Salas,
Secretary.

[FR Doc. 03-8085 Filed 4-2-03; 8:45 am]

BILLING CODE 6717-01-P